ENVIRONMENTAL PROTECTION AGENCY

40 CFR Part 271

[EPA-R07-RCRA-2006-0026; FRL-8163-4]

Missouri: Final Authorization of State Hazardous Waste Management Program Revisions

AGENCY: Environmental Protection Agency (EPA).

ACTION: Immediate final rule.

SUMMARY: Missouri has applied to EPA for Final authorization of the changes to its hazardous waste program under the Resource Conservation and Recovery Act (RCRA). EPA has determined that these changes satisfy all requirements needed to qualify for Final authorization, and is authorizing the State's changes through this immediate final action. EPA is publishing this rule to authorize the changes without a prior proposal because EPA believes this action is not controversial and does not expect comments that oppose it. Unless EPA receives written comments that oppose this authorization during the comment period, the decision to authorize Missouri's changes to its hazardous waste program will take effect.

DATES: This Final authorization will become effective on June 27, 2006 unless EPA receives adverse written comment by May 30, 2006. If EPA receives such comment, it will publish a timely withdrawal of this immediate final rule in the Federal Register and inform the public that this authorization will not take effect.

ADDRESSES: Submit your comments, identified by Docket ID No. EPA-R07-RCRA-2006-0026, by one of the following methods:

1. http://www.regulations.gov. Follow the on-line instructions for submitting comments.

2. E-mail: haugen.lisa@epa.gov.

3. Mail: Lisa Haugen, Environmental Protection Agency, RCRA Enforcement and State Programs Branch, 901 North 5th Street, Kansas City, Kansas 66101.

5. Hand Delivery or Courier. Deliver your comments to Lisa Haugen, Environmental Protection Agency, RCRA Enforcement and State Programs Branch, 901 North 5th Street, Kansas City, Kansas 66101.

Instructions: Direct your comments to Docket ID No. EPA-R07-RCRA-2006-0026. EPA's policy is that all comments received will be included in the public docket without change and may be made available online at http://www.regulations.gov, including any personal information provided, unless the comment includes information claimed to be Confidential Business Information (CBI) or other information whose disclosure is restricted by statute. Do not submit through http://www.regulations.gov or e-mail information that you consider to be CBI or otherwise protected. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the ­ http://www.regulations.gov index. Although listed in the index, some information is not publicly available, i.e., CBI or other information whose disclosure is restricted by statute. Certain other material, such as copyrighted material, is not placed on the Internet and will be publicly available only in hard copy form. Publicly available docket materials are available either electronically in http://www.regulations.gov or in hard copy at the Environmental Protection Agency, RCRA Enforcement and State Programs Branch, 901 North 5th Street, Kansas City, Kansas 66101. The Regional Office's official hours of business are Monday through Friday, 8 to 4:30 excluding Federal holidays. The interested persons wanting to examine these documents should make an appointment with the office at least 24 hours in advance.

FOR FURTHER INFORMATION CONTACT: Lisa Haugen, EPA Region 7, ARTD/RESP, 901 North 5th Street, Kansas City, Kansas 66101, (913) 551-7877, or by e-mail at haugen.lisa@epa.gov.

SUPPLEMENTARY INFORMATION:

A. Why Are Revisions to State Programs Necessary?

States which have received final authorization from EPA under RCRA section 3006(b), 42 U.S.C. 6926(b), must maintain a hazardous waste program that is equivalent to, consistent with, and no less stringent than the Federal program. As the Federal program changes, a State must change its program and ask EPA to authorize the changes. Changes to State programs may be necessary when Federal or State statutory or regulatory authority is modified or when certain other changes occur. Most commonly, the State must change its program because of changes to EPA's regulations in 40 Code of Federal Regulations (CFR) parts 124, 260 through 266, 268, 270, 273 and 279.

B. What Decisions Has EPA Made in This Rule?

EPA concludes that Missouri's application to revise its authorized program meets all of the statutory and regulatory requirements established by RCRA. Therefore, EPA grants Missouri Final authorization to operate its hazardous waste program with the changes described in the authorization application. Missouri has responsibility for permitting Treatment, Storage, and Disposal Facilities (TSDFs) within its borders (except in Indian Country) and for carrying out the aspects of the RCRA program described in its revised program application, subject to the limitations of the Hazardous and Solid Waste Amendments of 1984 (HSWA). New Federal requirements and prohibitions imposed by Federal regulations that EPA promulgates under the authority of HSWA take effect in authorized States before they are authorized for the requirements. Thus, EPA will implement those requirements and prohibitions in Missouri including issuing permits, until the State is granted authorization to do so.

C. What Is the Effect of This Authorization Decision?

The effect of this decision is that a facility in Missouri subject to RCRA will now have to comply with the authorized State requirements instead of the equivalent Federal requirements in order to comply with RCRA. Missouri has enforcement responsibilities under its State hazardous waste program for violations of such program, but EPA retains its authority under RCRA sections 3007, 3008, 3013, and 7003, which include, among others, authority to:

• Do inspections, and require monitoring, tests, analyses or reports;

• Enforce RCRA requirements and suspend or revoke permits.

This action does not impose additional requirements on the regulated community because the regulations for which Missouri is being authorized by today's action are already effective, and are not changed by today's action.

D. Why Wasn't There a Proposed Rule Published Before This Rule?

EPA did not publish a proposal before today's rule because EPA views this as a routine program change and does not expect comments that oppose this approval. EPA is providing an opportunity for public comment now. In addition to this rule, in the proposed rules section of today's Federal Register EPA is publishing a separate document that proposes to authorize the State program changes.

E. What Happens if EPA Receives Comments That Oppose This Action?

If EPA receives comments that oppose this authorization, EPA will withdraw this rule by publishing a document in the Federal Register before the rule becomes effective. EPA will base any further decision on the authorization of the State program changes on this Immediate Final Rule. EPA will then address all public comments in a later final rule. If you want to comment on this authorization, you must do so at this time.

If EPA receives comments that oppose only the authorization of a particular change to the State hazardous waste program, EPA will withdraw that part of this rule but the authorization of the program changes that the comments do not oppose will become effective on the date specified above. The Federal Register withdrawal document will specify which part of the authorization will become effective, and which part is being withdrawn.

F. What Has Missouri Previously Been Authorized For?

On November 20, 1985, EPA published a Federal Register document announcing its decision to grant final authorization for the RCRA base program to the State of Missouri which became effective December 12, 1985 (50 FR 47740). Missouri received authorization for revisions to its program as follows: February 27, 1989, effective April 28, 1989 (54 FR 8190); January 11, 1993, effective March 12, 1993 (58 FR 3497); and on May 30, 1997, effective July 29, 1997 (62 FR 29301). On January 7, 1998, (63 FR 683) a correction was made to the May 30, 1997, (62 FR 29301) document to correct the effective date of the rule to be consistent with sections 801 and 808 of the Congressional Review Act, enacted as part of the Small Business Regulatory Enforcement Fairness Act. Additionally, the State adopted and applied for interim authorization for the corrective action portion of the HSWA Codification Rule (July 15, 1985, 50 FR 28702). For a full discussion of the HSWA Codification Rule, the reader is referred to the Federal Register cited above. The State was granted interim authorization for the corrective action portion of the HSWA Codification Rule on February 23, 1994, effective April 25, 1994 (50 FR 8544). Final authorization for corrective action was granted on May 4, 1999, effective July 5, 1999 (64 FR 23740). Missouri received authorization for further revisions to its program on February 28, 2000, effective April 28, 2000 (65 FR 10405); and on October 1, 2001, effective November 30, 2001 (66 FR 49841).

G. What Changes Is EPA Authorizing With This Action?

On June 22, 2005, Missouri submitted a final complete program revision application, seeking authorization of its changes in accordance with 40 CFR 271.21. EPA now makes an immediate final decision, subject to receipt of written comments that oppose this action, that Missouri's hazardous waste program revision satisfies all of the requirements necessary to qualify for Final authorization. Therefore, EPA grants Missouri Final authorization for the following program changes:

Description of federal requirement (include checklist #, if relevant) | Federal Register date and page (and/or RCRA statutory authority) | Analogous state authority title 10, division 25, code of state regulations (10 CSR 25, unless otherwise noted), Rules of Department of Natural Resources [as amended through August 30, 2002]
Organic Air Emission Standards for Tanks, Surface Impoundments, and Containers—Checklists 154, 163 and 177) | 59 FR 62896-62953 December 6,1994; 60 FR 26828-26829 May 19, 1995; 60 FR 50426-50430 September 29, 1995; 60 FR 56952-56954 November 13, 1995; 61 FR 4903-4916 February 9, 1996; 61 FR 28508-28511 June 5, 1996; 61 FR 59932-59997 November 25, 1996; 62 FR 64636-64671 December 8, 1997; and 64 FR 3382 January 21, 1999 | 10 CSR 10-6.070(1)(A) & 10 CSR 25-3.260(1)(A); 25-3.260(1); 4.261(1); 5.262(1); 7.264(1); 7.265(1); 7.270(1).
Standards for Generators of Hazardous Waste—Checklist 58 | 53 FR 45089-45093 November 8, 1988 | 10 CSR 25-5.262(1).
Exports of Hazardous Waste; Technical Correction—Checklist 97 | 56 FR 43704-43705 September 4, 1991 | 10 CSR 25-5.262(1).
Recycled Coke By-Product Exclusion—Checklist 105 | 57 FR 27880-27888 June 22, 1992 | 10 CSR 25-4.261(1); 7.266(1).
Land Disposal Restrictions for Newly Listed Wastes and Hazardous Debris—Checklist 109 | 57 FR 37194-37282; 57 FR 39275; 57 FR 41173 August 18, 1992 | 10 CSR 25-3.260(1); 4.261(1); 5.262(1); 7.264(1); 7.265(1); 7.268(1); 7.270(1).
Coke By-Products Listings—Checklist 110 | 57 FR 37284-37306 August 18, 1992 | 10 CSR 25-4.261(1).
Boilers and Industrial Furnaces; Changes for Consistency with New Air Regulations—Checklist 125 | 58 FR 38816-38884 July 20, 1993 | 10 CSR 25-3.260(1); 7.266(1).
Testing and Monitoring Activities—Checklist 126 | 58 FR 46040-46051 August 31, 1993; 59 FR 47980-47982 September 19, 1994 | 10 CSR 25-3.260(1); 4.261(1); 7.264(1); 7.265(1); 7.268(1); 7.270(1).
Land Disposal Restrictions Phase III—Decharacterized Wastewaters, Carbamate Wastes, and Spent Potliners—Checklist 151 | 61 FR 15566-15660; 61 FR 15660-15668 April 8, 1996; 61 FR 19117 April 30, 1996; 61 FR 33680-33691 June 28, 1996; 61 FR 36419-36421 July 10, 1996; 61 FR 43924-43931 August 26, 1996; 62 FR 7502-7600 February 19, 1997 | 10 CSR 25-7.268(1).
Military Munitions Rule—Checklist 156 | 62 FR 6622-6657 February 12, 1997 | 10 CSR 25-3.260(1); 4.261(1); 5.262(1); 6.263(1); 7.264(1); 7.265(1); 7.266(1); 7.266(2)(M)1-2; 7.270(1).
Land Disposal Restrictions—Phase IV—Checklist 157 | 62 FR 25998-26040 May 12, 1997 | 10 CSR 25-4.261(1); 7.268(1).
Land Disposal Restrictions—Phase III—Emergency Extension of the K088 National Capacity Variance, Amendment—Checklist 160 | 62 FR 37694-37699 July 14, 1997 | 10 CSR 25-7.268(1).
Emergency Revision of the Carbamate Land Disposal Restrictions—Checklist 161 | 62 FR 45568-45573 August 28, 1997 | 10 CSR 25-7.268(1).
Clarification of Standards for Hazardous Waste LDR Treatment Variances—Checklist 162 | 62 FR 64504-64509 December 5, 1997 | 10 CSR 25-7.268(1); 7.268(2)(D)4
Land Disposal Restrictions Phase IV—Treatment Standards for Metal Wastes and Mineral Processing Wastes—Checklist 167A | 63 FR 28556-28753 May 26, 1998; 63 FR 31266 June 8, 1998 | 10 CSR 25-7.268(1).
Land Disposal Restrictions Phase IV—Hazardous Soils Treatment Standards and Exclusions—Checklist 167B | 63 FR 28556-28753 May 26, 1998; 63 FR 31266 June 8, 1998 | 10 CSR 25-7.268(1).
Land Disposal Restrictions Phase IV—Corrections—Checklist 167C | 63 FR 28556-28753 May 26, 1998; 63 FR 31266 June 8, 1998 | 10 CSR 25-7.268(1).
Mineral Processing Secondary Materials Exclusion—Checklist 167D | 63 FR 28556-28753 May 26, 1998; 63 FR 31266 June 8, 1998 | 10 CSR 25-4.261(1).
Bevill Exclusion Revisions and Clarification—Checklist 167E | 63 FR 28556-28753 May 26, 1998; 63 FR 31266 June 8, 1998 | 10 CSR 25-4.261(1).
Hazardous Waste Combustors Revised Standards—Checklist 168 | 63 FR 33782-33829 June 19, 1998 | 10 CSR 7.270(1).
Petroleum Refining Process Wastes—Checklist 169 | 63 FR 42110-42189 August 6, 1998; 63 FR 54356-54357 October 9, 1998 | 10 CSR 25-4.261(1); 7.266(1); 7.268(1).
Land Disposal Restrictions Phase IV—Zinc Micronutrient Fertilizers, Administrative Stay—Checklist 170 | 63 FR 46332-46334 August 31, 1998 | 10 CSR 25-7.268(1).
Emergency Revision of the Land Disposal Restrictions Treatment Standards for Listed Hazardous Wastes from Carbamate Production—Checklist 171 | 63 FR 47410-47418 September 4, 1998 | 10 CSR 25-7.268(1).
Land Disposal Restrictions Phase IV—Extension of Compliance Date for Characteristic Slags—Checklist 172 | 63 FR 48124-48127 September 9, 1998 | 10 CSR 25-7.268(1).
Land Disposal Restrictions—Treatment Standards for Spent Potliners from Primary Aluminum Reduction (K088); Final Rule—Checklist 173 | 63 FR 51254-51267 September 24, 1998 | 10 CSR 25-7.268(1).
Post-Closure Requirements and Closure Process—Checklist 174 | 63 FR 56710-56735 October 22, 1998 | 10 CSR 25-7.264(1); 7.265(1); 7.270(1).
HWIR-Media—Checklist 175 | 63 FR 65874-65947 November 30, 1998 | 10 CSR 25-3.260(1); 4.261(1); 7.264(1); 7.265(1); 7.268(1); 7.270(1).
Petroleum Refining Process Wastes—Leachate Exemption—Checklist 178 | 64 FR 6806 February 11, 1999 | 10 CSR 25-4.261(1).
Land Disposal Restrictions Phase IV—Technical Corrections and Clarifications to Treatment Standards—Checklist 179 | 64 FR 25408-25417 May 11, 1999 | 10 CSR 25-4.261(1); 5.262(1); 7.268(1).
Test Procedures for the Analysis of Oil and Grease and Non-Polar Material—Checklist 180 | 64 FR 26315-26327 May 14, 1999 | 10 CSR 25-3.260(1).
Hazardous Air Pollutant Standards for Combustors, Miscellaneous Units, and Secondary Lead Smelters; Clarification of BIF Requirements; Technical Correction to Fast-track Rule—Checklist 182 | 64 FR 52828-53077 September 30, 1999; 64 FR 63209-63213 November 19, 1999 | 10 CSR 25-260(1); 4.261(1); 7.264(1); 7.265(1); 7.266(1); 7.270(1).
Land Disposal Restrictions Phase IV—Technical Corrections—Checklist 183 | 64 FR 56469-56472 October 20, 1999 | 10 CSR 25-4.261(1); 5.262(1); 7.268(1).
Accumulation Time for Waste Water Treatment Sludges—Checklist 184 | 65 FR 12378-12398 March 8, 2000 | 10 CSR 25-5.262(1).
Vacatur of Organobromine Production Waste Listings—Checklist 185 | 65 FR 14472-14475 March 17, 2000 | 10 CSR 25-5.262(1); 7.268(1).
Petroleum Refining Process Wastes—Clarification—Checklist 187 | 65 FR 36365-36367 June 8, 2000 | 10 CSR 25-4.261(1); 7.268(1).

H. Where Are the Revised State Rules Different From the Federal Rules?

The following differences between the Federal Rules and the State Rules have been deemed equivalent:

• 10 CSR 25-3.260(1)(A): Missouri replaces all Federal internal references with references to its own analogs. Missouri incorporates by reference 40 CFR part 60, including Appendix A, within its air emission regulations at 10 CSR 10-6.070(1)(A). Therefore, the state is equivalent to the Federal regulations.

• 10 CSR 25-5.262(2)(C)4.: Missouri has not adopted the Federal provision at 40 CFR 262.34(a)(1)(iii) which was introduced by the Wood Preserving Rule (Checklist 82). Checklist 109 merely made minor typographical changes to this provision due to the insertion of 262.34(a)(1)(iv), which addresses containment buildings. Not adopting 262.34(a)(1)(iii) does not affect the State's provisions for Revision Checklist 109.

• 10 CSR 25-7.266(2)(M)1. and (M)2.: Missouri has substituted the oral and written notification of the director in 40 CFR 266.203(a)(1) with the notification of the “department's emergency response coordinator” in the event of a loss or theft of waste military munitions. This change satisfies the intent of the section; therefore the state section is equivalent to the Federal.

EPA considers the following State requirements to be more stringent than the Federal requirements:

• 10 CSR 25-3.260(2)(C): Missouri does not incorporate by reference the Federal provision on Rulemaking Petitions found at 40 CFR part 260, subpart C. The State requires the petitioner to seek delisting from the Federal EPA after which Missouri may choose to allow the waste delisting to be implemented for the State program. If the State fails to take action within a sixty day window, the delisting is “deemed approved.” The modification is more stringent only in those cases where the State decides not to approve the federal EPA approved delisting. In those cases where the department either approves the delisting or fails to take any action, the modification is equivalent.

• 10 CSR 25-4.261(2)(A)9: Missouri does not incorporate 40 CFR 261.4(a)(16) by reference. This section of the federal regulations excludes comparable fuels and comparable syn/gas fuels in the definition of solid waste. The state's omission of 40 CFR 261.4(a)(16) makes the state more stringent because the syn/gas fuel provisions are considered by EPA to reduce the stringency of the Federal program.

• 10 CSR 25-4.261(2)(D)4: Missouri does not incorporate 40 CFR 261.38 by reference. This section of the Federal regulations includes requirements that syn/gas fuel generators must meet so as not to be fully regulated as hazardous waste generators. The omission of 40 CFR 261.38 from the state regulations makes the state more stringent because the syn/gas fuel provisions are considered by EPA to reduce the stringency of the Federal program.

• 10 CSR 25-5.262(2)(C)6: Missouri modifies its incorporation by reference of 40 CFR 262.34(d)(2) by requiring that all generators regardless of quantity generated, including conditionally exempt small quantity generators and small quantity generators, meet the special requirements for ignitable or reactive waste set forth in 40 CFR 265.176 (incorporated by reference at 10 CSR 25-7.265). Because the State requires the entire group of generators to follow the special requirements, the State provision is more stringent.

• 10 CSR 25-7.266(2)(H)1: Missouri does not incorporate by reference the exemption from regulation of used oil burned for emergency recovery that is a hazardous waste solely because it is a characteristic hazardous waste under 40 CFR part 261, subpart C. The Federal program regulates this waste under the Used Oil requirements found at 40 CFR part 279; however, Missouri includes this as hazardous waste and subjects it to the more stringent requirements of part 266.

• 10 CSR 25-7.268(2)(B): Missouri does not incorporate 40 CFR 268.14(a)-(c) by reference and, as a result, is more stringent because the state does not allow exemptions that the Federal program added with Revision Checklist 109. Missouri does not allow otherwise prohibited wastes to be placed in surface impoundments as allowed by the Federal program through these exemptions.

• 10 CSR 25-7.270(2)(D)6: Missouri does not incorporate by reference 40 CFR 270.42(j)(1) and (2), which address permit modification requirements under 40 CFR 63.1211. Because the State does not substitute its own requirements for the notification and approval processes, the state provision is more stringent than the Federal regulations because this provision is considered by EPA to reduce the stringency of the Federal program. EPA added these provisions to help assure that permitted facilities are able to meet the MACT standards within three years.

These requirements are part of Missouri's authorized program and are federally enforceable.

EPA also considers the following State requirement to go beyond the scope of the Federal program:

• 10 CSR 25-7.266(2)(H)2: Missouri adds language to the end of 40 CFR 266.100(d) which is the Federal provision on the conditional exemption of facilities that process hazardous waste solely for metal recovery. The state requires these facilities to be subject to the Hazardous Waste Resource Recovery Processes regulations at 10 CSR 25-9.020. Because there are no analogous provisions in the Federal program, the State is broader in scope than the Federal program.

Broader-in-scope requirements are not part of the authorized program and EPA can not enforce them. However, although these provisions are not requirements under RCRA, they remain effective as state law.

I. Renumbering of Previously Authorized Provisions

The following table includes a list of Missouri provisions which were previously authorized, and have since been renumbered. In most instances, the State simply renumbered the provisions while making very minor changes, if any, to the provisions themselves. EPA had determined that the minor changes do not require the provisions to be re-authorized.

Current state citation as found in Title 10, Division 25, Code of State Regulations [as amended through August 30, 2002] | Previous state citation as found in title 10, Division 25, Code of State Regulations [effective December 31, 1990, unless otherwise noted] | Noted changes
25-3.260(1)(A)18 | 25-3.260(1)(A)16 | N/A.
25-3.260(1)(A)19 | 25-3.260(1)(A)17 | N/A.
25-3.260(1)(A)20 | 25-3.260(1)(A)18 | N/A.
25-3.260(1)(A)21 | 25-3.260(1)(A)19 | N/A.
25-3.260(1)(A)22 | 25-3.260(1)(A)20 | N/A.
25-3.260(1)(A)23 | 25-3.260(1)(A)21 | N/A.
25-3.260(1)(A)24 | 25-3.260(1)(A)22 | N/A.
25-3.260(1)(A)25 | 25-3.260(1)(A)23 | N/A.
25-3.260(1)(A)26 | 26-3.260(1)(A)24 | State substituted “regulation” for “rule”.
25-3.260(1)(A)27 | 26-3.260(1)(A)25 | N/A.
25-3.260(2)(A)1-(A)1.C. | 25-3.260(1)(B)-(1)(B)3 | At 25-3.260(2)(A)1.A., Missouri removed “this” prior to “subsection (1)(B).”.
25-3.260(2)(C) | 25-3.260(1)(C), effective March 5, 1999 | N/A.
25-3.260(2)(D) | 25-3.260(1)(D) | N/A.
25-3.260(3)(A)-(A)3 | 25-3.260(2)(A)-(A)3 | N/A.
25-3.260(3)(C)-(H)3 | 25-3.260(2)(C)-(H)3 | Slight wording changes.
25-3.260(3)(H)5 | 25-3.260(2)(H)4 | N/A.
25-3.260(3)(I) and 25-3.260(3)(I)1 | 25-3.260(2)(I) and 25-3.260(2)(I)1 | N/A.
25-3.260(3)(J)-(M)2 | 25-3.260(2)(J)-(M)2 | N/A.
25-3.260(3)(M)4 | 25-3.260(2)(M)3 | Punctuation change.
25-3.260(3)(O)-(O)2 | 25-3.260(2)(O)-(O)2 | Slight wording changes.
25-3.260(3)(O)4 | 25-3.260(2)(O)3 | State substituted “regulations” for “rules”.
25-3.260(3)(P) and (P)2 | 25-3.260(2)(P) and (P)1 | N/A.
25-3.260(3)(R)-(R)6 | 25-3.260(2)(R)-(R)6 | N/A.
25-3.260(3)(R)8-(T)1 | 25-3.260(2)(R)8-(T)1 | Slight wording changes.
25-3.260(3)(T)3 and (T)4 | 25-3.260(2)(T)2 and (T)3 | Slight wording changes.
25-3.260(3)(U) introduction | 25-3.260(2)(U) | N/A.
25-3.260(3)(U)3 | 25-3.260(2)(U)1 | N/A.
25-3.260(3)(V) introduction | 25-3.260(2)(V) | N/A.
25-3.260(3)(V)2 | 25-3.260(2)(V)2 | N/A.
25-3.260(3)(W)-(W)2 | 25-3.260(2)(W)-(W)2 | N/A.
25-4.261(2)(A)3 | 25-4.261(2)(A)2 | N/A.
25-4.261(2)(A)5 | 25-4.261(2)(A)4 | N/A.
25-4.261(2)(A)7 | 25-4.261(2)(A)5 | Punctuation change.
25-4.261(2)(A)11 | 25-4.261(2)(A)6 | Slight wording changes.
25-4.261(2)(A)12 | 25-4.261(2)(A)7 | N/A.
25-4.261(2)(A)12.A.-12.B. | 25-4.261(2)(A)7.A.-7.B. | N/A.
25-4.261(2)(A)13 | 25-4.261(2)(A)8, effective March 31, 1996 | N/A.
25-4.261(2)(A)17 | 25-4.261(2)(A)9 | N/A.
25-5.262(2)(C)5-7 | 25-5.262(2)(C)4-6 | N/A.
25-5.262(2)(I) | 25-5.262(2)(H) | Punctuation change
25-5.262(2)(J) | 25-5.262(2)(I) | N/A.
25-6.263(2)(A)3-3.E. | 25-6.263(2)(A)3-3.C. | Slight wording changes.
25-6.263(2)(B)1, except (B)1.A.(II) | 25-6.263(2)(B)1, except (B)1.A., 3rd sentence, effective March 31, 1996 | N/A.
25-7.264(2)(B)3 | 25-7.264(2)(B)4 | N/A.
25-7.264(2)(E)2 introduction | 25-7.264(2)(E)3 introduction | N/A.
25-7.264(2)(E)2.A. | 25-7.264(2)(E)3.A. | N/A.
25-7.264(2)(E)2.B. and 2.C. | 25-7.264(2)(E)3.B. and 3.C. | N/A.
25-7.264(2)(E)2.D. | 25-7.264(2)(E)3-3.E. | N/A.
25-764(2)(E)2.E. | 25-7.264(2)(E)3.E. | N/A.
25-7.264(2)(E)3-3.C.(VI) | 25-7.264(2)(E)4-4.C.(VI) | N/A.
25-7.264(2)(F)4 introduction, 4.A. and 4.A.(I) | 25-7.264(2)(F)5 introduction, 5.A. and 5.A.(I) | N/A.
25-7.264(2)(F)4.B. introduction-4.B.(I) | 25-7.264(2)(F)5 introduction-5.B.(I) | N/A.
25-7.264(2)(F)4.B.(III) | 25-7.264(2)(F)5.B.(VII) | N/A.
25-7.264(2)(F)5 | 25-7.264(2)(F)6 | N/A.
25-7.264(2)(G)2-4 | 25-7.264(2)(G)3-5 | N/A.
25-7.264(2)(J)3-4 | 25-7.264(2)(J)2-3 | N/A.
25-7.264(2)(L) introduction | 25-7.264(2)(L), first sentence | N/A.
25-7.264(2)(L)1 | 25-7.264(2)(L), second sentence | N/A.
25-7.264(2)(N)2.B.-G. | 25-7.264(2)(N)2.A., effective March 5, 1999 | N/A.
25-7.264(2)(N)2.J.-N. | 25-7.264(2)(N)2.B.-F. | N/A.
25-7.265(2)(E)1-3.D. | 25-7.265(2)(E)1 | N/A.
25-7.265(2)(G)1 | 25-7.265(2)(G)2 | N/A.
25-7.265(2)(G)2-(G)4 | 25-7.265(2)(G)3-(G)5 | N/A.
25-7.265(2)(I) introduction | 25-7.265(2)(I) and (I)1 introduction | N/A.
25-7.265(2)(I)1 | 25-7.265(2)(I)1.A | N/A.
25-7.265(2)(I)2 introduction-2.E. | 25-7.265(2)(I)1.B.-B.(V) | N/A.
25-7.265(2)(I)3 | 25-7.265(2)(I)1.C. | N/A.
25-7.265(2)(I)4 introduction-4.B. | 25-7.265(2)(1)1.D. introduction-D.(II) | N/A.
25-7.265(2)(I)5 | 25-7.265(2)(I)2 | N/A.
25-7.265(2)(J)2 | 25-7.265(2)(J)1 | N/A.
25-7.270(2)(A)7 | 25-7.270(2)(A)5 | N/A.
25-7.270(2)(B)5 introduction and 25-7.270(2)(B)5.A.-L | 25-7.270(2)(B)4, fourth sentence and 25-7.270(2)(B)4.A.-L | N/A.
25-7.270(2)(B)6 | 25-7.270(2)(B)5 | N/A.
25-7.270(2)(B)12-15 | 25-7.270(2)(B)11-15 | N/A.

J. Who Handles Permits After the Authorization Takes Effect?

Missouri will issue permits for all the provisions for which it is authorized and will administer the permits it issues. EPA will continue to administer any RCRA hazardous waste permits or portions of permits which EPA issued prior to the effective date of this authorization. EPA will not issue any more new permits or new portions of permits for the provisions listed in the Table above after the effective date of this authorization. EPA will continue to implement and issue permits for HSWA requirements for which Missouri is not yet authorized.

K. What Is Codification and Is EPA Codifying Missouri's Hazardous Waste Program as Authorized in This Rule?

Codification is the process of placing the State's statutes and regulations that comprise the State's authorized hazardous waste program into the Code of Federal Regulations. EPA does this by referencing the authorized State rules in 40 CFR part 272. EPA reserves the amendment of 40 CFR part 272, subpart AA for this authorization of Missouri's program changes until a later date.

L. Statutory and Executive Order Reviews

This rule only authorizes hazardous waste requirements pursuant to RCRA section 3006 and does not impose any requirements other than those imposed by State law (see Supplementary Information, Section A. Why are Revisions to State Programs Necessary?). Therefore this rule complies with applicable executive orders and statutory provisions as follows:

1. Executive Order 18266: Regulatory Planning Review

The Office of Management and Budget has exempted this action from the requirements of Executive Order 12866 (58 FR 51735, October 4, 1993).

2. Paperwork Reduction Act

This rule does not impose an information collection burden under the provisions of the Paperwork Reduction Act of 1995 (44 U.S.C. 3501 et seq.).

3. Regulatory Flexibility Act

After considering the economic impacts of today's rule on small entities under the Regulatory Flexibility Act (5 U.S.C. 601 et seq.), I certify that this rule will not have a significant economic impact on a substantial number of small entities.

4. Unfunded Mandates Reform Act

Because this rule approves pre-existing requirements under state law and does not impose any additional enforceable duty beyond that required by state law, it does not contain any unfunded mandate or significantly or uniquely affect small governments, as described in the Unfunded Mandates Reform Act of 1995 (Pub. L. 104-4).

5. Executive Order 13132: Federalism

Executive Order 13132 (64 FR 43255, August 10, 1999) does not apply to this rule because it will not have federalism implications (i.e.; substantial direct effects on the States, on the relationship between the national government and the States, or on the distribution of power and responsibilities among the various levels of government).

6. Executive Order 13175: Consultation and Coordination With Indian Tribal Governments

Executive Order 13185 (65 FR 67249, November 9, 2000) does not apply to this rule because it will not have tribal implications (i.e., substantial direct effects on one or more Indian Tribes, or on the relationship between the Federal Government and Indian Tribes, or on the distribution of power and responsibilities between the Federal Government and Indian Tribes.)

7. Executive Order 13045: Protection of Children From Environmental Health and Safety Rules

This rule is not subject to Executive Order 13045 (62 FR 19885, April 23, 1997), because it is not economically significant and it is not based on environmental health or safety risks.

8. Executive Order 13211: Actions That Significantly Affect Energy Supply, Distribution, or Use

This rule is not subject to Executive Order 13211 (66 FR 28355, May 22, 2001), because it is not a significant regulatory action as defined in Executive Order 12866.

9. National Technology Transfer Advancement Act

EPA approves State programs as long as they meet criteria required by RCRA, so it would be inconsistent with applicable law for EPA, in its review of a State program, to require the use of a particular voluntary consensus standard in place of another standard that meets the requirements of RCRA. Thus, the requirements of section 12(d) of the National Technology and Advancement Act of 1995 (15 U.S.C. 272 note) do not apply to this rule.

10. Executive Order 12988

As required by section 3 of Executive Order 12988 (61 FR 4729, February 7, 1996), in issuing this rule, EPA has taken the necessary steps to eliminate drafting errors and ambiguity, minimize potential litigation, and provide a clear legal standard for affected conduct.

11. Executive Order 12630: Evaluation of Risk and Avoidance of Unanticipated Takings

EPA has complied with Executive Order 12630 (53 FR 8859, March 15, 1988) by examining the takings implications of the rule in accordance with the Attorney General's Supplemental Guidelines for the Evaluation of Risk and Avoidance of Unanticipated Takings issued under the Executive Order.

12. Congressional Review Act

EPA will submit a report containing this rule and other information required by the Congressional Review Act (5 U.S.C. 801 et seq.) to the U.S. Senate, the U.S. House of Representatives, and the Comptroller General of the United States prior to publication in the Federal Register. A major rule cannot take effect until 60 days after it is published in the Federal Register. This action is not a “major rule” as defined by 5 U.S.C. 804(2).

List of Subjects in 40 CFR Part 271

Environmental protection, Administrative practice and procedure, Confidential business information, Hazardous waste, Hazardous waste transportation, Indian lands, Intergovernmental relations, Penalties, Reporting and recordkeeping requirements.

Authority: This action is issued under the authority of sections 2002(a), 3006 and 7004(b) of the Solid Waste Disposal Act as amended 42 U.S.C. 6912(a), 6926, 6974(b).

Dated: April 17, 2006.
James B. Gulliford,
Regional Administrator, Region 7.

[FR Doc. 06-4025 Filed 4-27-06; 8:45 am]

BILLING CODE 6560-50-P